DEPARTMENT OF THE INTERIOR

U.S. Geological Survey

[GX16EE000101000]

Agency Information Collection Activities: Request for Comments on the National Spatial Data Infrastructure—Cooperative Agreements Program (NSDI CAP)

AGENCY: U.S. Geological Survey (USGS), Interior.

ACTION: Notice of a new information collection, National Spatial Data Infrastructure—Cooperative Agreements Program (NSDI CAP).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before March 24, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028—New National Spatial Data Infrastructure—Cooperative Agreements Program (NSDI CAP)'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028—New: National Spatial Data Infrastructure—Cooperative Agreements Program (NSDI CAP) in all correspondence.

FOR FURTHER INFORMATION CONTACT: Brigitta Urban-Mathieux, Federal Geographic Data Committee Office of the Secretariat, U.S. Geological Survey, 12201 Sunrise Valley Drive, Mail Stop 590, Reston, VA 20192 (mail); 703-648-5175 (phone); or burbanma@usgs.gov (email). You may also find information about this ICR at www.reginfo.gov.

SUPPLEMENTARY INFORMATION:

I. Abstract

Respondents are submitting proposals to acquire funding for projects to help build the infrastructure necessary for the geospatial data community to effectively discover, access, share, manage, and use digital geographic data. The National Spatial Data Infrastructure (NSDI) consists of the technologies, policies, organizations, and people necessary to promote cost-effective production, and the ready availability and greater utilization of geospatial data among a variety of sectors, disciplines, and communities. Specific NSDI areas of emphasis include: Metadata documentation, clearinghouse establishment, geospatial data framework development, standards implementation, and geographic information system (GIS) organizational coordination.

We will issue a Request for Proposal (RFP) via Grants.gov. The incoming proposals will be reviewed and scored based on the responses to the questions in the RFP. No questions of a “sensitive” nature are asked. We intend to release the project abstracts and names of the primary investigators for awarded/funded projects only.

II. Data

OMB Control Number: 1028—NEW.

Title: National Spatial Data Infrastructure—Cooperative Agreements Program (NSDI CAP).

Type of Request: Approval of new information collection.

Respondent Obligation: Required to obtain or retain benefits.

Frequency of Collection: This is an annual offer.

Description of Respondents: General public, State and Local governments, Tribal nations.

Estimated Total Number of Annual Responses: 60.

Estimated Time per Response: Application: 35 hours; Interim and Final reports: 5 hours each.

Estimated Annual Burden Hours: 2,350 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number.

Comments: On 08/07/2015, we published a Federal Register notice (80 FR 47512) announcing that we would submit this ICR to OMB for approval and soliciting comments. The comment period closed on 10/06/2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Ivan DeLoatch,
Executive Director, Federal Geographic Data Committee, Core Science Systems.

[FR Doc. 2016-03680 Filed 2-22-16; 8:45 am]

BILLING CODE 4338-11-P